DEPARTMENT OF TRANSPORTATION

Federal Aviation Administration

[Summary Notice No. PE-2003-62]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Caren Centorelli, Office of Rulemaking (ARM-1), Federal Aviation Administration, 800 Independence Avenue, SW., Washington, DC 20591. Tel. (202) 267-8199.

This notice is published pursuant to 14 CFR 11.85 and 11.91.

Issued in Washington, DC, on October 30, 2003.
Donald P. Byrne,
Assistant Chief Counsel for Regulations.

Dispositions of Petitions

Docket No.: FAA-2002-13283.

Petitioner: Embraer Empresa Brasileira de Aeronautica S.A. (Embraer).

Section of 14 CFR Affected: 14 CFR 25.979(b)(2).

Description of Relief Sought/Disposition: To extend the June 30, 2003, termination date of Exemption No. 7909 to September 30, 2003, unless sooner superseded or rescinded. Grant, 06/25/2003, Exemption No.7909.

Docket No.: FAA-2003-15118.

Petitioner: Gulfstream Aerospace Corporation.

Section of 14 CFR Affected: 14 CFR 25.901(c).

Description of Relief Sought/Disposition: To provide relief from the requirements of § 25.901(c) to the extent necessary to allow type certification of all Gulfstream Aerospace Model G-1159, G-1159A, G1159B, G-IV, GV and GVSP type design changes to be approved, under Type Certificate A12EA, after the date of this granting, without an exact showing of compliance with the requirements of § 25.901(c) or other applicable regulations, as they relate to single failures resulting in uncontrollable high thrust conditions. Partial Grant, 10/08/2003, Exemption No.8142.

Docket No.: FAA-2003-15420.

Petitioner: Embraer Empresa Braslleira de Aeronautics S.A. (Embraer).

Section of 14 CFR Affected: 14 CFR 25.831(g), Amendment 25-87.

Description of Relief Sought/Disposition: To provide relief from the requirement of § 25.831(g), as amended by Amendment 25-87, that the airplane cabin humidity level must remain less than 27 millibars vapor pressure following an improbable failure condition. Grant, 10/14/2003, Exemption No.8151.

Docket No.: FAA-2003-15705.

Petitioner: Fokker Services B.V.

Section of 14 CFR Affected: 14 CFR 25.562 and 25.785(b).

Description of Relief Sought/Disposition: To provide relief from the requirements of §§ 25.562 and 25.785(b) for installation of medical stretchers on Gulfstream G-V airplanes. Grant, 10/03/2003, Exemption No.8140.

[FR Doc. 03-27740 Filed 11-4-03; 8:45 am]

BILLING CODE 4910-13-P